OFFICE OF THE DIRECTOR OF NATIONAL INTELLIGENCE

Office of the Director of National Intelligence; Privacy Act of 1974; System of Records

AGENCY: Office of the Director of National Intelligence.

ACTION: Notice to establish systems of records.

SUMMARY: The Office of the Director of National Intelligence (ODNI) provides notice that it is establishing fourteen (14) new systems of records subject to the Privacy Act of 1974, as amended, 5 U.S.C. 552a. These systems of records are maintained by the ODNI.

DATES: This action will be effective on May 12, 2010, unless comments are received that result in a contrary determination.

ADDRESSES: You may submit comments, identified by RIN number, by any of the following methods:

Federal eRulemaking Portal: http://www.regulations.gov.

Mail: Director, Information Management, Office of the Director of National Intelligence, Washington, DC 20511.

FOR FURTHER INFORMATION CONTACT: Mr. John F. Hackett, Director, Information Management, 703-275-2215.

SUPPLEMENTARY INFORMATION: The ODNI was created by the Intelligence Reform and Terrorism Prevention Act of 2004 (IRTPA), Public Law 108-458, 118 Stat. 3638 (Dec. 17, 2004). ODNI published its final Privacy Act Regulation on March 28, 2008 (73 FR 16531) and twelve Privacy Act systems of records notices on December 28, 2007 (72 FR 73887). ODNI now adds fourteen (14) additional systems of records to its inventory of record systems subject to the Privacy Act of 1974 (5 U.S.C. 552a). These systems of records are subject to routine uses established by final rule dated March 28, 2008 (73 FR 16531, 16541). To protect classified and sensitive personnel or law enforcement information contained in these systems, the Office of the Director of National Intelligence is proposing to exempt these systems of records from certain portions of the Privacy Act where necessary, as permitted by law. As required by the Privacy Act, a proposed rule is being published concurrently with this notice to seek public comment on exemption of these systems. The ODNI has previously established a rule that it will preserve the exempt status of records it receives when the reason for the exemption remains valid (73 FR 16537). In accordance with 5 U.S.C. 552a (r), the ODNI has provided a report of these new systems of records to the Office of Management and Budget and to Congress.

Dated: March 25, 2010.
John F. Hackett,
Director, Information Management.

SYSTEM NAME:

Manuscript, Presentation, and Resume Review Records (ODNI-01).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Current and former employees of the Office of the Director of National Intelligence (ODNI), including assignees and detailees to the ODNI, contractors, individuals hired under the Intergovernmental Personnel Act, and other individuals who have had access to ODNI information or facilities and who are subject to prepublication review of writings or presentations pursuant to non-disclosure agreements.

CATEGORIES OF RECORDS IN THE SYSTEM:

Manuscripts and other writings (including those supporting oral presentations), resumes, videos, internet postings, and other works or products relating to the activities of the ODNI; records consulted in conducting pre-publication review; records generated in documenting pre-publication review decisions.

AUTHORITY FOR MAINTENANCE OF THE SYSTEM:

The National Security Act of 1947, as amended, 50 U.S.C. 401-442; The Federal Records Act of 1950, as amended, 44 U.S.C. 3101 et seq.; Executive Order 12333, as amended (73 FR 45325); Executive Order 12958, as amended (68 FR 15315); Executive Order 9397, as amended (73 FR 70239); and 32 CFR 1701 et seq. (73 FR 16531, 16541).

PURPOSE(S):

ODNI reviews writings intended for publication to ensure that potentially classified material or information that requires protection from public disclosure is not compromised.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov). In addition, a record from this system of records maintained by ODNI may be disclosed as a routine use to Federal agencies involved in a classification review of ODNI records.

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within the control of the ODNI. Electronic records are stored in secure file-servers located within secure facilities under control of the ODNI.

RETRIEVABILITY:

By name and case number. Information may be retrieved from this system of records by automated or hand search based on indices and automated capabilities utilized in the normal course of business. All searches of this system of records will be performed in ODNI offices by authorized staff.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228-Disposition of Federal Records, records will not be disposed of until such time as the National Archives and Records Administration (NARA) approves an applicable ODNI Records Control Schedule.

SYSTEM MANAGER(S) AND ADDRESS:

Office of the Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Records received from individuals covered by this system; records generated internally in reviewing proposed publications; records from other elements of the Intelligence Community used in conducting pre-publication reviews.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Executive Secretary Action Management System Records (ODNI—02).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Individuals who communicate with the Office of the Director of National Intelligence (ODNI) via e-mail, fax, courier, and mail, and individuals who are the subject of official communications to and from the ODNI.

CATEGORIES OF RECORDS IN THE SYSTEM:

All incoming and outgoing official correspondence and communications encompassing the spectrum of ODNI missions, policies, procedures, operations, and activities, including public and congressional affairs. The system incorporates taskings, messages, correspondence, reports, studies, and communications with the Congress, the National Security Council, the White House, other government departments and agencies as well as ODNI components, non-government organizations and the public. Also included are minutes and other records of the Intelligence Community Leadership Committee and other high level councils, committees, task forces, and groups in which the ODNI leadership holds functional or secretariat responsibilities.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

ODNI personnel use records in the ODNI Action Management System to track and manage incoming and outgoing official correspondence.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper and other hard-copy records are stored in secured areas within the control of the ODNI. Electronic records are stored in secure file-servers located within secure facilities under control of the ODNI.

RETRIEVABILITY:

By name and action tracking number. Information may be retrieved from this system of records by automated or hand search based on indices and automated capabilities utilized in the normal course of business. All searches of this system of records will be performed by authorized staff.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

Executive Secretary, c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Officials and staff of the executive, judicial, and legislative branches, representatives of non-governmental organizations, and members of the general public who exchange official communications with the ODNI.

EXEMPTIONS CLAIMED FOR THE SYSTEM:

Records contained in this System of Records may be exempted from the requirements of subsections (c)(3); (d)(1), (2), (3), (4); (e)(1) and (e)(4)(G), (H), (I); and (f) of the Privacy Act pursuant to exemptions under subsection (k)(1) of the Privacy Act, 5 U.S.C. 552a. Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Public Affairs Office Records (ODNI—03).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Media representatives and other members of the public who exchange communications with the Office of the Director of National Intelligence (ODNI) about ODNI and Intelligence Community (IC) activities; and ODNI personnel, including those assigned and detailed to the ODNI, who report media contacts.

CATEGORIES OF RECORDS IN THE SYSTEM:

Media products and extracts; copies of media communications to and from the Public Affairs Office (PAO) including memoranda of conversations; relevant correspondence from the public and ODNI responses; ODNI memoranda regarding matters under the purview of the PAO; and names of ODNI personnel who have reported contacts with the media.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

PAO personnel use this system to track institutional communications with the media and the public, including speeches, press releases and fact sheets, issuances and messages to the IC, as well as individual ODNI staff contacts with the media.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within the control of the ODNI. Electronic records are stored in secure file-servers located within secure facilities under control of the ODNI.

RETRIEVABILITY:

By name or other key word. Information may be retrieved from this system of records by automated or hand search based on indices and automated capabilities utilized in the normal course of business. All searches of this system of records will be performed by authorized staff.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

Public Affairs Office, c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Records in the system are received from or generated by individuals covered by this system of records or produced by the ODNI concerning ODNI or IC activities.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Office of Legislative Affairs Records (ODNI-04).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Current and former members of the U.S. Congress and Congressional staff; individuals whose inquiries are forwarded by members of the U.S. Congress or Congressional staff to the Office of the Director of National Intelligence (ODNI) for response; or individuals who are the subject of official ODNI correspondence with members of Congress or Congressional staff.

CATEGORIES OF RECORDS IN THE SYSTEM:

Congressional notifications; communications between ODNI's Office of Legislative Affairs (OLA), members of Congress, Congressional staff, constituents, other ODNI offices and/or U.S. Government entities regarding constituent or other inquiries sent to the ODNI for response; and memoranda, correspondence, position papers and other communications supporting ODNI's liaison with Congress, including documentation of briefings, debriefings and reports on ODNI activities.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

ODNI collects and maintains records regarding communications and interactions with Congress, constituents, and legislative matters.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov)

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within the control of the ODNI. Electronic records are stored in secure file-servers located within secure facilities under control of the ODNI.

RETRIEVABILITY:

By name or other key word. Information may be retrieved from this system of records by automated or hand search based on indices and automated capabilities utilized in the normal course of business. All searches of this system of records will be performed by authorized staff.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

Director of Legislative Affairs c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Current and former members of the U.S. Congress and their staffs; ODNI officials and offices; and individuals communicating with the ODNI.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

ODNI Guest Speaker Records (ODNI-05).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Individuals who may be or have been engaged as guest speakers (academics, business professionals, and government officials), trainers and other presenters.

CATEGORIES OF RECORDS IN THE SYSTEM:

Biographic data including academic credentials; publicly available information (e.g., publications authored by the speaker); correspondence; and administrative records concerning the engagements.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

The Office of the Director of National Intelligence (ODNI) maintains records of speakers' presentations and biographies as a resource for Intelligence Community elements.

ROUTINE USES OF RECORDS MAINTAINED IN THE SYSTEM, INCLUDING CATEGORIES OF USERS AND THE PURPOSES OF SUCH USES:

See General Routine Uses Applicable to More than One ODNI Privacy Act System of Records, Subpart C of Office of the Director of National Intelligence (ODNI)'s Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within the control of the ODNI. Electronic records are stored in secure file-servers located within secure facilities under control of the ODNI.

RETRIEVABILITY:

By name or other key word. Information may be retrieved from this system of records by automated or hand search based on indices and automated capabilities utilized in the normal course of business. All searches of this system of records will be performed by authorized staff.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

Deputy Director of National Intelligence for Policy, Plans, and Requirements c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Records in the system are obtained from individuals covered by this system; ODNI officials and offices; and academic institutions, private organizations, libraries, commercial databases, and federal agencies.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Office of General Counsel Records (ODNI-06).

SECURITY CLASSIFICATION:

The classification of records in this system can range from UNCLASSIFIED to TOP SECRET.

SYSTEM LOCATION:

Office of Director of National Intelligence, Washington, DC 20511.

CATEGORIES OF INDIVIDUALS COVERED BY THE SYSTEM:

Current and former staff and contract employees, personal services independent contractors, employees of industrial contractors, military and civilian personnel detailed or assigned to the Office of the Director of National Intelligence (ODNI); applicants for employment with the ODNI; current and former employees and contractors of other U.S. Government agencies; individuals in contact with the ODNI, including individuals whose inquiries concerning the ODNI or the Intelligence Community (IC) are forwarded to the Office of General Counsel for response; attorneys in private practice who hold ODNI security clearances or access approvals; individuals in government, academia, the business community, or other elements of the private sector with expertise on matters of interest to the Office of General Counsel; and individuals involved in matters subject to the ODNI or the IC's legal authorities, responsibilities, and obligations, including but not limited to administrative claimants, grievants, parties in litigation, witnesses, targets or potential targets of investigations or intelligence collection, and individuals who are interviewed by, or provide information to the ODNI or the IC.

CATEGORIES OF RECORDS IN THE SYSTEM:

Legal documents, including but not limited to pleadings, subpoenas, motions, affidavits, declarations, briefs, litigation reports, and legal opinions; crimes reports obtained from the U.S. Department of Justice or other law enforcement agencies; public and confidential Financial Disclosure Reports; internal ODNI documents and cables, and correspondence with members of the public, members of the U.S. Congress, Congressional staff, and federal, state, local, international and foreign agencies, courts and administrative tribunals.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

Records in this system are used by attorneys in the ODNI Office of General Counsel to provide legal advice and representation to the ODNI and its officers; provide factual information necessary for the preparation of legal documents, including but not limited to pleadings, subpoenas, motions, affidavits, declarations, briefs, legal opinions, litigation reports, and reports to law enforcement agencies; provide a record of all private attorneys who have received security clearances and/or access approvals for information necessary to their representation of ODNI-affiliated clients, and documentation of the nature, scope and duration of their representation of ODNI-affiliated clients; and maintain a record of federal, state, local, international or foreign litigation, administrative claims, and other legal matters in which ODNI is a party or has an interest.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within the ODNI. Electronic records are stored in secure file-servers located within the ODNI.

RETRIEVABILITY:

By name, personal identifier, case number, or key word. Information may be retrieved from this system of records by automated or hand search based on indices and automated capabilities utilized in the normal course of business. All searches of this system of records will be performed in ODNI offices by authorized staff.

SAFEGUARDS:

Information in this system is safeguarded in accordance with recommended and/or prescribed administrative, physical and technical safeguards. Records are maintained in a secure government facility with access to the facility limited to only authorized personnel or authorized and escorted visitors. Physical security protections include guards and locked facilities requiring badges and passwords for access. Records are accessed only by authorized government personnel and contractors holding an appropriate security clearance and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

General Counsel, c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request; and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Records in the system are received from individuals covered by the system; generated by the ODNI and federal, state and local government agencies and courts; obtained from the media, the internet and commercial databases.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1), (k)(2), and (k)(5). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Analytic Resources Catalog (ARC) (ODNI-07).

SYSTEM CLASSIFICATION:

The classification of records in this system can range from UNCLASSIFIED to TOP SECRET.

SYSTEM LOCATION:

Office of the Director of National Intelligence, Washington, DC 20511.

CATEGORIES OF INDIVIDUALS COVERED BY THE SYSTEM:

Current and former staff (employees, detailees, assignees and contractors) of the Intelligence Community (IC) elements, including military personnel and other federal employees with intelligence analysis duties.

CATEGORIES OF RECORDS IN THE SYSTEM:

Records, including the Analyst Yellow Pages, reflecting the assignments, expertise, education, specialized foreign language and other skills, and experiences of federal government employees and contractors performing intelligence analysis duties; pre-set reports and other documentation about analytic resources at each IC element and across the IC.

AUTHORITY FOR MAINTENANCE OF THE SYSTEM:

The National Security Act of 1947, as amended, 50 U.S.C. 401-442; Executive Order 12333, as amended (73 FR 45325); and Executive Order 9397, as amended (73 FR 70239).

PURPOSE:

Records in this system are used to: locate IC and other intelligence analysts for collaborative activities; identify analysts authorized to access on-line collaboration zones; obtain information about the expertise, skills and educational backgrounds of IC and other intelligence analysts; obtain aggregate information about the use of analytic resources across the IC; and assist in management and planning functions of each IC element and of the IC as a whole.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov). In addition, as routine uses specific to this system, the ODNI may disclose relevant ARC records to the following persons or entities and under the circumstances or for the purposes described below:

(a) A record from this system of records may be disclosed, as a routine use, to appropriately cleared and authorized staff of the IC elements in order to identify and locate intelligence analysts possessing specific expertise, skills or experiences for the purpose of collaborative analytic endeavors.

(b) A record from this system of records may be disclosed, as a routine use, to appropriately cleared and authorized staff of the IC elements whose responsibility it is to assess the depth and strength of the IC's analytic skills, expertise and experience and for other workforce management, budgeting or planning purposes.

DISCLOSURE TO CONSUMER REPORTING AGENCIES:

None.

POLICIES AND PRACTICES FOR STORING, RETRIEVING, ACCESSING, RETAINING AND DISPOSING OF RECORDS IN THE SYSTEM:

STORAGE:

Electronic records are stored in secure file-servers located within secure facilities under control of the ODNI.

RETRIEVABILITY:

Records about individual analysts can be searched and retrieved based on name or other key word (e.g., degrees held, foreign language ability, country or intelligence area of specialization) pertinent to analytic expertise.

SAFEGUARDS:

Information in this system is safeguarded in accordance with recommended and/or prescribed administrative, physical and technical safeguards. Records are maintained in a secure government facility with access to the facility limited to only authorized personnel or authorized and escorted visitors. Physical security protections include guards and locked facilities requiring badges and passwords for access. Records are accessed only by authorized government personnel and contractors holding an appropriate security clearance and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

ARC Program Manager, c/o Director, Information Management, Office of the Director of National Intelligence, Washington, DC 20511.

NOTIFICATION PROCEDURE:

As specified below, records in this system are exempt from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORDS SOURCE CATEGORIES:

Records in the system are obtained directly from individual analysts and from their employing agencies' human resource information systems.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Intelligence Community Customer Registry (ODNI-09).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Current and former intelligence customers including U.S. policymakers, U.S. Government personnel, and other authorized recipients of Intelligence Community (IC) intelligence products.

CATEGORIES OF RECORDS IN THE SYSTEM:

Biographic data (including name, title, employing agency), organizational charts, contact information, security clearances and access approvals, subjects of intelligence interest to covered individuals, comments and feedback from covered individuals regarding preferred format for receiving intelligence products.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

Records in this system enable authorized personnel of the ODNI and other IC elements to ensure intelligence customers receive intelligence products in accordance with their expressed interests and particular requirements for format and delivery.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published at 32 CFR part 1701 (73 FR 16531, 16541) and incorporated by reference (see also http://www.dni.gov). In addition, the Customer Registry will be made available to authorized U.S. Government analysts, analytical managers and other intelligence support personnel to ensure that customers receive relevant intelligence products and to identify new and under-served customers by name and title.

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under control of the ODNI or its Executive Agent.

RETRIEVABILITY:

By full text search, including name or identifying title. Information may be retrieved from this system of records by automated searches conducted by authorized members of the U.S. Government.

SAFEGUARDS:

Information in this system is safeguarded in accordance with recommended and/or prescribed administrative, physical and technical safeguards. Records are maintained in a secure government or contractor facility with access to the facility limited to only authorized personnel or authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228-Disposition of Federal Records, records will not be disposed of until such time as the National Archives and Records Administration (NARA) approves an applicable ODNI Records Control Schedule.

SYSTEM MANAGER(S) AND ADDRESS:

Deputy Director of National Intelligence for Analysis, c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Records in the system are obtained from individual intelligence customers; intelligence support personnel; commercial subscription services; other agency repositories.

EXEMPTIONS CLAIMED FOR THE SYSTEM:

Records contained in this System of Records may be exempted from the requirements of subsections (c)(3);(d)(1),(2),(3),(4); (e)(1) and (e)(4)(G),(H),(I); and (f) of the Privacy Act pursuant to 5 U.S.C. 552a(k)(1). Records may be exempted from these subsections or additionally, from the requirements of subsections (c)(4);(e)(2),(3),(5),(8),(12); and (g) of the Privacy Act consistent with any exemptions claimed under 5 U.S.C. 552a(j) or (k) by the originator of the record, provided the reason for the exemption remains valid and necessary.

SYSTEM NAME:

Equal Employment Opportunity and Diversity Office (EEOD) Records (ODNI-10).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Current and former Office of the Director of National Intelligence (ODNI) staff and contract personal, and military and civilian personnel detailed or assigned to the ODNI; and applicants for employment with the ODNI.

CATEGORIES OF RECORDS IN THE SYSTEM:

Records relating to requests made by individuals or offices for reasonable accommodations (including medical records), and the products or services provided in response to such requests.

AUTHORITY FOR MAINTENANCE OF THE SYSTEM:

The National Security Act of 1947, as amended, 50 U.S.C. 401-442; The Rehabilitation Act of 1973, as amended, 29 U.S.C. 791; The Federal Records Act of 1950, as amended, 44 U.S.C. 3101 et. seq; Executive Order 12333, as amended (73 FR 45325); Executive Order 12958, as amended (68 FR 15315); Executive Order 12968, as amended (73 FR 38103); and Executive Order 13164 (65 FR 46565).

PURPOSE(S):

Records in this system are used to track requests for and provision of reasonable accommodations based on medical disability.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within the ODNI. Electronic records are stored in secure file-servers located within the ODNI.

RETRIEVABILITY:

By name, and case number. Information may be retrieved from this system of records by automated or hand search based on indices and automated capabilities utilized in the normal course of business. All searches of this system of records will be performed in ODNI offices by authorized personnel.

SAFEGUARDS:

Information in this system is safeguarded in accordance with recommended and/or prescribed administrative, physical, and technical safeguards. Records are maintained in a secure government facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. Backup tapes are maintained in a secure, off-site location.

RETENTION AND DISPOSAL:

EEOD records covered by the General Records Schedule 1, Items 24 through 27, will be retained and disposed according to those provisions. Any other EEOD records, pursuant to 44 U.S.C. 3303a(d) and 36 CFR chapter 12, subchapter B, part 1228—Disposition of Federal Records, will not be disposed of until such time as the National Archives and Records Administration (NARA) approves an applicable ODNI Records Control Schedule.

SYSTEM MANAGER(S) AND ADDRESS:

Chief, Office of Equal Employment Opportunity and Diversity, c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Individuals covered by this system; medical and psychiatric professionals.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1), (k)(2), and (k)(5). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Office of Protocol Records (ODNI—11).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Individuals invited to and attending events organized by the Office of Protocol; U.S. officials receiving gifts and decorations from foreign sources.

CATEGORIES OF RECORDS IN THE SYSTEM:

Guest lists; details of visitor preferences or needs; records of access, escorts and travel arrangements of attendees to events sponsored by the Office of the Director of National Intelligence (ODNI); and records relating to gifts and decorations from foreign sources.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

Office of Protocol personnel use this system to record communications with those invited to or attending ODNI events and to record U.S. officials' receipt of gifts and decorations from foreign sources.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within the ODNI. Electronic records are stored in secure file-servers located within the ODNI.

RETRIEVABILITY:

By name or other key word. Information may be retrieved from this system of records by automated or hand search based on indices and automated capabilities utilized in the normal course of business. All searches of this system of records will be performed by authorized staff.

SAFEGUARDS:

Information in this system is safeguarded in accordance with recommended and/or prescribed administrative, physical, and technical safeguards. Records are maintained in a secure government facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

Chief of Protocol, c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Records in the system are (1) Obtained directly from the individuals or their representatives covered by this system of records; (2) publicly available information from the media, the Internet and commercial databases; and (3) ODNI materials produced in the course of ODNI events.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Intelligence Community Security Clearance and Access Approval Repository (ODNI-12).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Subjects of security clearance and access approval investigations, including current and former U.S. government employees, applicants for employment in the Intelligence Community (IC), military personnel, personal service independent contractors and industrial contractors to U.S. government programs.

CATEGORIES OF RECORDS IN THE SYSTEM:

Biographic data (including name, date and place of birth, social security number, and employer); current status of security clearances and security access approvals, and date and source of background investigation and, if applicable, of polygraph examination.

AUTHORITY FOR MAINTENANCE OF THE SYSTEM:

The National Security Act of 1947, as amended, 50 U.S.C. 401-442; The Federal Records Act of 1950, as amended, 44 U.S.C. 3101 et seq.; Executive Order 12333, as amended (73 FR 45325); Executive Order 12958, as amended (68 FR 15315); and Executive Order 9397, as amended (73 FR 70239).

PURPOSE(S):

Records in this system enable authorized personnel of the ODNI and other IC elements to reciprocally share information about individuals who are currently cleared or individuals where some processing was previously conducted for a clearance/access. Such information supports clearance reciprocity and security business processes enabling the appropriate access to controlled facilities and classified information.

ROUTINE USES OF RECORDS MAINTAINED IN THE SYSTEM, INCLUDING CATEGORIES OF USERS AND THE PURPOSES OF SUCH USES:

Records in this system are disclosed to elements of the IC and authorized government contractors to verify individuals' security clearances and access approvals. See also General Routine Uses Applicable to More Than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers maintained by the ODNI.

RETRIEVABILITY:

By name, social security number, or other unique employee identifier. Information may be retrieved from this system of records by automated search based on indices and automated capabilities utilized in the normal course of business. All searches of the system are conducted by authorized staff or contractors of the IC member agencies.

SAFEGUARDS:

Information in this system is safeguarded in accordance with recommended and/or prescribed administrative, physical, and technical safeguards. Records are maintained in a secure facility with access to the facility limited to authorized personnel only and authorized and escorted visitors. Physical security protections include guards and locked facilities requiring badges and passwords for access. Records are accessed only by authorized government personnel holding appropriate security clearances and whose official duties require access to the records as certified by an Access Control List. Communications are encrypted where required and other safeguards are in place to monitor and audit access and to detect intrusions. System backup is maintained separately.

RETENTION AND DISPOSAL:

Records in this system are dynamic and are refreshed as necessary by the contributing IC element. Pursuant to 44 U.S.C. 3303a(d) and 36 CFR chapter 12 subchapter B, part 1228—Disposition of Federal Records, and in accordance with General Records Schedule (GRS) 18, Item 23, records in this system are destroyed when they are superseded or become obsolete for the purpose intended.

SYSTEM MANAGER(S) AND ADDRESS:

Personnel Security Databases Program Manager, c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.”

Regulations governing access to and amendment of one's records or for appealing an initial determination concerning access or amendment of records are contained in the ODNI regulation implementing the Privacy Act.

RECORD SOURCE CATEGORIES:

Records in this system derive from background investigations conducted or maintained by government and private sector organizations.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1), (2) and (5). Records may be exempted from these subsections or additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Security Clearance Reform Research Records (ODNI-13).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Present and former Intelligence Community (IC) civilian employees, military members and contractor employees who possess or have applied for a security clearance; individuals whose names, exclusive of other information, are captured in publicly available data sets (including those obtained through subscription or fee).

CATEGORIES OF RECORDS IN THE SYSTEM:

Completed Standard Forms 85, 85P and 86 and associated authorization and consent forms; financial disclosure forms; records of polygraph examinations (including reports, charts, tapes and notes of polygraph interviews); records from credit, criminal history and other databases and sources checked in conducting a suitability determination, background investigation, and/or personnel security continuing evaluation; background investigation reports; responses from personnel security-related interviews and questionnaires; and name-data sets obtained from publicly available sources, including those obtained for fee or by subscription.

AUTHORITY FOR MAINTENANCE OF THE SYSTEM:

The National Security Act of 1947, as amended, 50 U.S.C. 401-442; Executive Order 12968, as amended (73 FR 38103); Internal Security Act of 1950, as amended, 50 U.S.C. 781-887; Executive Order 9397, as amended (73 FR 70239); Executive Order 10450, as amended (44 FR 1055); Executive Order 10865, as amended (68 FR 4075); Executive Order 12333, as amended (73 FR 45325); Executive Order 12958, as amended (68 FR 15315); Executive Order 13467 (73 FR 38103); and 5 U.S.C. 9101.

PURPOSE(S):

To conduct research, development and analyses for (1) Evaluating and improving IC personnel security procedures, programs and policies; (2) assisting in providing training, instruction and advice on personnel security subjects for IC elements; (3) encouraging cooperative research within and among IC elements on personnel security issues that have IC-wide programmatic or policy implications; and (4) conducting pilot test projects regarding personnel security and related research interests of the Office of the Director of National Intelligence (ODNI) or the IC.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published at 32 CFR part 1701 (73 FR 16531, 16541) and incorporated by reference ( see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper and other hard-copy records (computer output products, disks, etc.) are stored in secured areas maintained by the ODNI. Electronic records are stored in secure file-servers located within secure facilities under control of ODNI.

RETRIEVABILITY:

By name, social security number, or other unique employee identifier. Information may be retrieved from this system of records by automated or hand search.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228-Disposition of Federal Records, records will not be disposed of until such time as the National Archives and Records Administration (NARA) approves an applicable ODNI Records Control Schedule.

SYSTEM MANAGER(S) AND ADDRESS:

Security Research Program Manager c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Records are obtained from the personnel security records of the member IC elements, the Defense Security Service (DSS) and other departmental intelligence elements; the DOD Joint Personnel Adjudication System (JPAS); the Office of Personnel Management's Clearance Verification (CVS) and Personnel Investigations Processing (PIPS) systems; other government data sources and publicly available commercial data sets; interviews with and questionnaires completed by covered individuals.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1), (k)(2) and (k)(5). Records may be exempted from these subsections or additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

Civil Liberties and Privacy Office Complaint Records (ODNI-14).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Current and former Office of the Director of National Intelligence (ODNI) staff and staff of the Intelligence Community (IC) elements, including military and civilian personnel detailed to the ODNI or IC elements; contract employees, including personal services independent contractors and industrial contractors; and members of the public.

CATEGORIES OF RECORDS IN THE SYSTEM:

Records alleging violations of civil liberties or privacy arising from the programs and activities of the ODNI or any of the IC elements; and records of review, investigation, acknowledgment or disposition of allegations received.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

Records in this system are used by authorized personnel of the Civil Liberties and Privacy Office (CLPO) to track, review, and, as appropriate, investigate complaints of civil liberties or privacy violations in the conduct of programs and activities by the ODNI or IC elements.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published at 73 FR 16531, 16541 and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper and other hard-copy records are stored in secured areas within the CLPO. Electronic records are stored in secure file-servers located within the ODNI.

RETRIEVABILITY:

By name or case number. Information may be retrieved from this system of records by automated or hand search based on existing indices and automated capabilities utilized in the normal course of business. All searches of this system of records will be performed in ODNI offices by CLPO personnel.

SAFEGUARDS:

Information in this system is safeguarded in accordance with recommended and/or prescribed administrative, physical, and technical safeguards. Records are maintained in a secure government facility with access to the facility limited to authorized personnel only and authorized and escorted visitors. Physical security protections include guards and locked facilities requiring badges and passwords for access. Records are accessed only by authorized government personnel holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

Civil Liberties Protection Officer c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Individuals covered by this system; records generated by ODNI CLPO personnel in reviewing and addressing complaints.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1), (k)(2), and (k)(5). Records may be exempted from these subsections or additionally, from the requirements of subsections (c)(4); (e)(2), (3), (5), (8), (12); and (g) of the Privacy Act consistent with any exemptions claimed under 5 U.S.C. 552a(j) or (k) by the originator of the record, provided the reason for the exemption remains valid and necessary.

SYSTEM NAME:

National Intelligence Council (NIC) Consultation Records (ODNI-15).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

U.S. Government personnel and personal services independent contractors and industrial contractors, or others who serve in liaison or contractual relationships with the National Intelligence Council (NIC) or with Intelligence Community (IC) elements; individuals in academia and the private sector with expertise on matters of intelligence interest to the NIC.

CATEGORIES OF RECORDS IN THE SYSTEM:

Records in this system include biographic, administrative, and contact information for individuals covered by the system; records about intelligence products and activities in which covered individuals collaborated or participated.

AUTHORITY FOR MAINTENANCE OF THE SYSTEM:

The National Security Act of 1947, as amended, 50 U.S.C. 401-442; Executive Order 12333, as amended (73 FR 45325); Executive Order 12958, as amended (68 FR 15315); and Executive Order 12968, as amended (73 FR 38103).

PURPOSE(S):

Records in this system enable the NIC to enlist expertise from outside of the IC in furtherance of its responsibility to produce strategic intelligence products.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within ODNI facilities. Electronic records are stored in secure file-servers located within ODNI facilities.

RETRIEVABILITY:

By name or other key word. Information may be retrieved from this system of records by automated or hand search based on indices and automated capabilities utilized in the normal course of business.

SAFEGUARDS:

Information in this system is safeguarded in accordance with recommended and/or prescribed administrative, physical, and technical safeguards. Records are maintained in a secure government facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228- Disposition of Federal Records, records will not be disposed of until such time as the National Archives and Records Administration (NARA) approves an applicable ODNI Records Control Schedule.

SYSTEM MANAGER(S) AND ADDRESS:

Director, Plans and Production, National Intelligence Council, c/o Director, Information Management, Office of the Director of National Intelligence, Washington, DC 20511.

NOTIFICATION PROCEDURE:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Requesters shall provide their full name and complete address. The requester must sign the request and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Individuals covered by this system; U.S. Government employees, agencies and organizations; private sector entities, academia, media, libraries and commercial databases.

EXEMPTIONS CLAIMED FOR THE SYSTEM:

Records contained in this System of Records may be exempted from the requirements of subsections (c)(3); (d)(1), (2), (3), (4); (e)(1) and (e)(4)(G), (H), (I); and (f) of the Privacy Act pursuant to 5 U.S.C. 552a(k)(1). Records may be exempted from these subsections or, additionally, from the requirements of subsections (c)(4); (e)(2), (3), (5), (8), (12); and (g) of the Privacy Act consistent with any exemptions claimed under 5 U.S.C. 552a(j) or (k) by the originator of the record, provided the reason for the exemption remains valid and necessary.

[FR Doc. 2010-7535 Filed 4-1-10; 8:45 am]

BILLING CODE P